DEPARTMENT OF COMMERCE

National Oceanic and Atmospheric Administration

[I.D. 110501F]

Mid-Atlantic Fishery Management Council; Meetings

AGENCY: National Marine Fisheries Service (NMFS), National Oceanic and Atmospheric Administration (NOAA), Commerce.

ACTION: Notice of public meeting(s).

SUMMARY: The Mid-Atlantic Fishery Management Council’s Summer Flounder Monitoring Committee, Scup Monitoring Committee, and Black Sea Bass Monitoring Committee will hold a public meeting.

DATES: The meeting will be held on Wednesday, November 28, 2001, beginning at 10 a.m. with the Summer Flounder Monitoring Committee, followed by the Scup Monitoring Committee and the Black Sea Bass Monitoring Committee.

ADDRESSES: The meeting will be held at the Holiday Inn BWI, 890 Elkridge Landing Road, Baltimore, MD; telephone: 410-859-8400.

Council address: Mid-Atlantic Fishery Management Council, 300 S. New Street, Dover, DE 19904; telephone: 302-674-2331.

FOR FURTHER INFORMATION CONTACT: Daniel T. Furlong, Executive Director, Mid-Atlantic Fishery Management Council, telephone: 302-674-2331, ext. 19.

SUPPLEMENTARY INFORMATION: The purpose of this meeting is to recommend the 2002 recreational management measures for summer flounder, scup, and black sea bass.

Although non-emergency issues not contained in this agenda may come before the Committee for discussion, those issues may not be subject of formal Committee action during this meeting. Committee action will be restricted to those issues specifically listed in this notice and any issues arising after publication of this notice that require emergency action under section 205 (c) of the Magnuson-Stevens Act, provided the public has been notified of the Committee’s intent to take final action to address the emergency.

Special Accommodations

This meeting is physically accessible to people with disabilities. Requests for sign language interpretation or other auxiliary aids should be directed to Joanna Davis at the Council (see ADDRESSES) at least 5 days prior to the meeting date.

Dated: November 6, 2001.
Richard W. Surdi,
Acting Director, Office of Sustainable Fisheries, National Marine Fisheries Service.

[FR Doc. 01-28236 Filed 11-8-01; 8:45 am]

BILLING CODE 3510-22-S